DEPARTMENT OF COMMERCE

International Trade Administration

[A-449-804]

Notice of Preliminary Determination of Sales at Less Than Fair Value and Postponement of Final Determination: Steel Concrete Reinforcing Bars From Latvia

AGENCY: Import Administration, International Trade Administration, Department of Commerce.

EFFECTIVE DATE: January 30, 2001.

FOR FURTHER INFORMATION CONTACT: Keir Whitson or Gabriel Adler at (202) 482-1777 or (202) 482-3813, respectively; AD/CVD Enforcement, Office 5, Group II, Import Administration, Room 1870, International Trade Administration, U.S. Department of Commerce, 14th Street and Constitution Avenue, NW, Washington, DC 20230.

The Applicable Statute and Regulations

Unless otherwise indicated, all citations to the statute are references to the provisions effective January 1, 1995, the effective date of the amendments made to the Tariff Act of 1930 (the Act) by the Uruguay Round Agreements Act (URAA). In addition, unless otherwise indicated, all citations to Department of Commerce (Department) regulations refer to the regulations codified at 19 CFR part 351 (April 2000).

Preliminary Determination

We preliminarily determine that steel concrete reinforcing bars (rebar) from Latvia are being sold, or are likely to be sold, in the United States at less than fair value (LTFV), as provided in section 733 of the Act. The estimated margins of sales at LTFV are shown in the Suspension of Liquidation section of this notice.

Case History

This investigation was initiated on July 18, 2000.¹ See Initiation of Antidumping Duty Investigations: Steel Concrete Reinforcing Bars from Austria, Belarus, Indonesia, Japan, Latvia, Moldova, the People's Republic of China, Poland, the Republic of Korea, the Russian Federation, Ukraine, and Venezuela, 65 FR 45754 (July 25, 2000) (Initiation Notice). Since the initiation of this investigation, the following events have occurred.

¹ The petitioner in these investigations is the Rebar Trade Action Coalition (RTAC), and its individual members, AmeriSteel, Auburn Steel Co., Inc., Birmingham Steel Corp., Border Steel, Inc., Marion Steel Company, Riverview Steel, and Nucor Steel and CMC Steel Group. (Auburn Steel was not a petitioner in the Indonesia case).

On August 14, 2000, the United States International Trade Commission (ITC) preliminarily determined that there is a reasonable indication that a regional industry in the United States is materially injured or threatened with material injury by reason of imports from Belarus, China, Indonesia, Korea, Latvia, Moldova, Poland, and Ukraine of certain steel concrete reinforcing bars. See Certain Steel Concrete Reinforcing Bars from Austria, Belarus, China, Indonesia, Japan, Korea, Latvia, Moldova, Poland, Russia, Ukraine, and Venezuela, 65 FR 51329 (August 23, 2000). With respect to subject imports from Austria, Russia, and Venezuela, the ITC determined that imports from these countries during the period of investigation (POI) were negligible and, therefore, these investigations were terminated. The ITC also determined that there is no reasonable indication that an industry in the United States is materially injured or threatened with material injury, by reason of subject imports from Japan. Id.

On August 18, 2000, the Department issued antidumping questionnaires to the only producer/exporter of subject merchandise in Latvia, Liepajas Metalurgs (LM).²

² Section A of the questionnaire requests general information concerning a company's corporate structure and business practices, the merchandise under investigation that it sells, and the manner in which it sells that merchandise in all of its markets. Section B requests a complete listing of all home market sales, or, if the home market is not viable, of sales in the most appropriate third-country market (This section is not applicable to respondents in non-market economy (NME) cases). Section C requests a complete listing of U.S. sales. Section D requests information on the cost of production (COP) of the foreign like product and the constructed value (CV) of the merchandise under investigation. In NME cases, Section D requests information on factors of production. Section E requests information on further manufacturing.

As of the date of initiation of this investigation, Latvia was still considered a non-market economy (NME) country. On August 24, 2000, the Department received a letter from Latvia's Ministry of Foreign Affairs requesting that the Department revoke the NME status of Latvia under section 771(18)(A) of the Act. After a thorough examination of all relevant information available to the Department, we have revoked Latvia's NME status under section 771(18)(A) of the Act. See Memorandum from Holly A. Kuga to Troy H. Cribb: Non-Market Economy Status Revocation (January 12, 2001). This preliminary determination is therefore based on information contained in the market economy questionnaire responses submitted by LM.

On November 9, 2000, the petitioner requested a postponement of the preliminary determinations in all concurrent rebar investigations. On November 21, 2000, the Department published a Federal Register notice postponing the deadline for the preliminary determination until January 16, 2001. See Notice of Postponement of Preliminary Antidumping Duty Determinations: Steel Concrete Reinforcing Bars from Belarus, Indonesia, Latvia, Moldova, the People's Republic of China, Poland, the Republic of Korea, and Ukraine, 65 FR 69909 (November 21, 2000).

Postponement of the Final Determination

Section 735(a)(2) of the Act provides that a final determination may be postponed until not later than 135 days after the date of the publication of the preliminary determination if, in the event of an affirmative preliminary determination, a request for such postponement is made by exporters who account for a significant proportion of exports of the subject merchandise, or in the event of a negative preliminary determination, a request for such postponement is made by the petitioner. The Department's regulations, at 19 CFR 351.210(e)(2), require that requests by respondents for postponement of a final determination be accompanied by a request for extension of provisional measures from a four-month period to not more than six months.

On January 5, 2001, LM requested that, in the event of an affirmative preliminary determination in this investigation, the Department postpone its final determination until 135 days after the publication of the preliminary determination. LM made a separate request to extend the provisional measures to not more than six months. Accordingly, since we have made an affirmative preliminary determination, and LM is the sole producer of the subject merchandise in Latvia, we have postponed the final determination for Latvia until not later than 135 days after the date of the publication of the preliminary determination.

Period of Investigation

The POI is April 1, 1999, through March 31, 2000. This period corresponds to the four most recent fiscal quarters prior to the month of the filing of the petition (i.e., June 2000).

Scope of Investigation

For purposes of these investigations, the product covered is all rebar sold in straight lengths, currently classifiable in the Harmonized Tariff Schedule of the United States (HTSUS) under item number 7214.20.00 or any other tariff item number. Specifically excluded are plain rounds (i.e., non-deformed or smooth bars) and rebar that has been further processed through bending or coating. HTSUS subheadings are provided for convenience and Customs purposes. The written description of the scope of this proceeding is dispositive.

Critical Circumstances

In the petition filed on June 28, 2000, the petitioner alleged that there is a reasonable basis to believe or suspect that critical circumstances exist with respect to imports of rebar from Latvia. On July 18, 2000, concurrent with the initiations of the LTFV investigation on imports of rebar from Latvia, the Department announced its intention to investigate the petitioner's allegation that critical circumstances exist with respect to imports of rebar from Latvia. On August 14, 2000, the International Trade Commission (ITC) determined that there is a reasonable indication of material injury to the domestic industry from imports of rebar from Latvia.

Section 733(e)(1) of the Act provides that the Department will determine that there is a reasonable basis to believe or suspect that critical circumstances exist, if: (A)(i) There is a history of dumping and material injury by reason of dumped imports in the United States or elsewhere of the subject merchandise, or (ii) the person by whom, or for whose account, the merchandise was imported knew or should have known that the exporter was selling the subject merchandise at less than its fair value and that there was likely to be material injury by reason of such sales, and (B) there have been massive imports of the subject merchandise over a relatively short period. Section 351.206(h)(1) of the Department's regulations provides that, in determining whether imports of the subject merchandise have been “massive,” the Department normally will examine: (i) The volume and value of the imports; (ii) seasonal trends; and (iii) the share of domestic consumption accounted for by the imports. In addition, section 351.206(h)(2) of the Department's regulations provides that an increase in imports of 15 percent or more during the “relatively short period” of time may be considered “massive.”

With respect section to section 733(e)(1)(A)(i) of the Act, we do not find that there is a history of dumping and material injury by reason of dumped imports in the United States or elsewhere of the subject merchandise, inasmuch as no country has issued a finding of dumping against Latvian rebar. Further, with respect to section 733(e)(1)(A)(ii) of the Act, the magnitude of the dumping margins found in this preliminary determination is insufficient to conclude that the person by whom, or for whose account, the merchandise was imported knew or should have known that the exporter was selling the subject merchandise at less than its fair value and that there was likely to be material injury by reason of such sales. As such, we are issuing a preliminary negative critical circumstances determination.

Although unnecessary in this case, we have also examined whether imports have been massive over a “relatively short period” of time, pursuant to section 733(e)(1)(B) of the Act. To do so, the Department normally compares the import volume of the subject merchandise for three months immediately preceding the filing of the petition (i.e., the base period), and three months following the filing of the petition (i.e., the comparison period). However, as stated in section 351.206(i) of the Department's regulations, if the Secretary finds that importers, exporters, or producers had reason to believe, at some time prior to the beginning of the proceeding, that a proceeding was likely, then the Secretary may consider a time period of not less than three months from that earlier time. Imports normally will be considered massive when imports during the comparison period have increased by 15 percent or more compared to imports during the base period.

In this case, the petitioner argues that importers, exporters, or producers of rebar from Latvia had reason to believe that an antidumping proceeding was likely before the filing of the petition. Based upon information contained in the petition, we found that press reports and published statements were sufficient to establish that, by December 1999, importers, exporters, and foreign producers knew or should have known that a proceeding was likely concerning rebar from Latvia. As a result, the Department has considered whether there have been massive imports after that time based on a comparison of periods immediately preceding and following the end of December 1999. See Memorandum from Gary Taverman to Holly A. Kuga, Antidumping Duty Investigations of Steel Concrete Reinforcing Bar from Latvia—Preliminary Negative Determination of Critical Circumstances (Critical Circumstances Preliminary Determination Memorandum), dated January 16, 2001.

In order to determine whether imports from Latvia have been massive, the Department requested that LM provide its shipment data for the last three years. Based on our analysis of the shipment data reported, because imports have decreased during the comparison period, we preliminarily find that the criterion under section 733(e)(1)(B) of the Act has not been met, i.e., there have not been massive imports of rebar from LM over a relatively short time. See Critical Circumstances Preliminary Determination Memorandum. For this reason, we preliminarily determine that critical circumstances do not exist for imports of rebar produced by LM.

Regarding the “all others” category, it is the Department's practice to conduct its critical circumstances analysis of companies in this category based on the experience of the investigated companies. See Notice of Final Determination of Sales at Less Than Fair Value: Certain Steel Concrete Reinforcing Bars from Turkey (Rebar from Turkey), 62 FR 9737, 9741 (March 4, 1997) (the Department found that critical circumstances existed for the majority of the companies investigated, and therefore concluded that critical circumstances also existed for companies covered by the “all others” rate). However, the Department does not automatically extend a critical circumstances determination to companies covered by the “all others” rate. See Notice of Final Determination of Sales at Less Than Fair Value: Stainless Steel Sheet and Strip in Coils from Japan, 64 FR 30574, 30585 (June 8, 1999) (Stainless Steel Sheet and Strip from Japan). Instead, the Department may consider the traditional critical circumstances criteria with respect to the companies covered by the “all others” rate.

In determining whether imports from the “all others” category have been massive, the Department followed its normal practice of conducting its critical circumstances analysis of companies in this category based on the experience of the investigated companies. In this case, since we are unaware of any other Latvian rebar producers, it is appropriate to extend the experience of LM to the “all others” category. For this reason, we determine that the second criterion under section 733(e)(1) of the Act has not been met and that there have not been massive imports of rebar from the “all others” category over a relatively short time. Therefore, pursuant to section 733(e) of the Act and section 351.206(h) of the Department's regulations, we preliminarily find that critical circumstances do not exist for imports of rebar produced by the “all others” category.

Selection of Respondents

Section 777A(c)(1) of the Act directs the Department to calculate individual dumping margins for each known exporter and producer of the subject merchandise. Where it is not practicable to examine all known producers/exporters of subject merchandise, section 777A(c)(2) of the Act permits us to investigate either (1) a sample of exporters, producers, or types of products that is statistically valid based on the information available at the time of selection, or (2) exporters and producers accounting for the largest volume of the subject merchandise that can reasonably be examined. LM is the only known producer/exporter of subject merchandise in Latvia.

Product Comparisons

Pursuant to section 771(16) of the Act, all products produced by the respondent covered by the description in the Scope of Investigation section, above, and sold in the comparison market during the POI are considered to be foreign like products for purposes of determining appropriate product comparisons to U.S. sales. We have relied on three criteria to match U.S. sales of subject merchandise to comparison-market sales of the foreign like product: type of steel, yield strength, and size. These characteristics have been weighted by the Department where appropriate. Where there were no sales of identical merchandise in the comparison market to compare to U.S. sales, we compared U.S. sales to sales of the next most similar foreign like product on the basis of the characteristics listed above.

Fair Value Comparisons

To determine whether sales of rebar from Latvia were made in the United States at LTFV, we compared the export price (EP) to the normal value (NV), as described in the Export Price and Normal Value sections of this notice. In accordance with section 777A(d)(1)(A)(i) of the Act, we calculated weighted-average EPs and, subsequently, compared these to weighted-average home market or third-country prices, as appropriate.

Export Price

For the price to the United States, we calculated an EP as defined in sections 772(a) and 772(b) of the Act, respectively. Section 772(a) of the Act defines EP as the price at which the subject merchandise is first sold by the exporter or producer outside the United States to an unaffiliated purchaser for exportation to the United States, before the date of importation, or to an unaffiliated purchaser for exportation to the United States. We calculated EP based on the packed, delivered, ex-factory prices charged to the first unaffiliated purchaser in the United States prior to importation. We made deductions from the starting price for movement expenses in accordance with section 772(c)(2)(A) of the Act. These include foreign movement expense (inland freight) and foreign brokerage and handling.

We note that, as explained below, we did not calculate dumping margins for certain sales by LM to an affiliated customer based on the reported databases. Instead, in accordance with section 776(a) of the Act, we preliminarily relied on adverse facts available in calculating the dumping margins for the transactions in question.

On December 1, 2000, the Department issued a memorandum stating that, for purposes of this investigation, it had found LM to be affiliated with one of its customers. See Memorandum from Gabriel Adler to Gary Taverman: Antidumping Investigation of Steel Concrete Reinforcing Bars from Latvia; Affiliation (December 1, 2000). On December 4, 2000, the Department issued a supplemental sales questionnaire to LM requesting, in part, that LM provide the downstream sales data for all sales made during the POI by its affiliated customer to unaffiliated parties in the United States. On December 6, 2000, LM stated that, while it did not view itself as affiliated with the customer in question, it had requested that its customer provide downstream sales data for its sales made to the United States during the POI. LM further stated that the affiliate was not willing to provide the Department with the requested information. On December 8, 2000, LM again stated that it could not provide this data to the Department.

Section 776(a)(2) of the Act provides that “if an interested party or any other person (A) withholds information that has been requested by the administering authority, (B) fails to provide such information by the deadlines for the submission of the information or in the form and manner requested, subject to subsections (c)(1) and (e) of section 782, (C) significantly impedes a proceeding under this title, or (D) provides such information but the information cannot be verified as provided in section 782(i), the administering authority and the Commission shall, subject to section 782(d) and (e) of the Act, use the facts otherwise available in reaching the applicable determination under this title.” The statute requires that certain conditions be met before the Department may resort to the facts otherwise available. Where the Department determines that a response to a request for information does not comply with the request, section 782(d) of the Act provides that the Department will so inform the party submitting the response and will, to the extent practicable, provide that party the opportunity to remedy or explain the deficiency. If the party fails to remedy the deficiency within the applicable time limits, the Department may, subject to section 782(e), disregard all or part of the original and subsequent responses, as appropriate. Briefly, section 782(e) provides that the Department “shall not decline to consider information that is submitted by an interested party and is necessary to the determination but does not meet all the applicable requirements established by the administering authority” if the information is timely, can be verified, is not so incomplete that it cannot be used, and if the interested party acted to the best of its ability in providing the information. Where all of these conditions are met, and the Department can use the information without undue difficulties, the statute requires it to do so.

In selecting from among the facts otherwise available, section 776(b) of the Act authorizes the Department to use an adverse inference, if the Department finds that an interested party failed to cooperate by not acting to the best of its ability to comply with the request for information. See, e.g., Certain Welded Carbon Steel Pipes and Tubes from Thailand: Final Results of Antidumping Duty Administrative Review, 62 FR 53808, 53819-20 (October 16, 1997). Finally, section 776(b) states that an adverse inference may include reliance on information derived from the petition. See also Statement of Administrative Action accompanying the URAA, H.R. Rep. No. 103-316 at 870 (1994).

While LM has been generally cooperative over the course of this antidumping proceeding, it has not been cooperative in responding to the Department's specific request for downstream sales data. As a result, we are applying the facts otherwise available for all sales made to the United States through the affiliate in question. Moreover, we are making an adverse inference with respect to this determination. Specifically, for sales made through this affiliated customer, we have assigned a margin calculated on the basis of the lowest net U.S. price reported for any sale not involving the affiliate, and the highest normal value calculated for any product reported by the respondent.³

³ Because we have relied on the respondent's own sales data as facts available, it is not necessary to corroborate such information under section 776(c) of the Act.

We note that, since most U.S. sales were made through the affiliate in question, the use of facts otherwise available extends to the majority of the respondent's U.S. sales. In reaching this preliminary determination, we are mindful that a respondent's failure to report the appropriate sales prices for the majority of U.S. sales might warrant wholesale rejection of the submitted responses, and reliance entirely on the facts otherwise available. In view of the specific circumstances presented in this case, however, we preliminarily believe at this time that it is more appropriate to base the dumping margins in part on that portion of the reported sales database that is not directly in question as a result of the respondent's omission. Given the nature of control between LM and its affiliate (where the affiliate has some measure of control over LM, but LM lacks control over its affiliate), the failure of the affiliate to provide requested sales data, while warranting an adverse inference with respect to those sales, does not necessarily impugn LM's compliance in reporting sales to other customers. While the factors above do not excuse the affiliate's failure to submit the requested sales information, they do provide a context in which it is appropriate to limit the use of adverse facts available to that specific omission.

Normal Value for Market Economy Analysis

A. Selection of Comparison Markets for Market Economy Countries

Section 773(a)(1) of the Act directs that NV be based on the price at which the foreign like product is sold in the home market, provided that the merchandise is sold in sufficient quantities (or value, if quantity is inappropriate) and that there is no particular market situation that prevents a proper comparison with the EP or CEP. The statute contemplates that quantities (or value) will normally be considered insufficient if they are less than five percent of the aggregate quantity (or value) of sales of the subject merchandise to the United States.

For the Latvia case, we found that LM does not have a viable home market for sales of rebar. Therefore, the respondent submitted data for sales to Germany, its largest third-country market, for purposes of the calculation of NV.

In deriving NV, we made adjustments as detailed in the Calculation of Normal Value Based on Third-Country Market Prices section below.

B. Cost of Production Analysis

On October 26, 2000, the petitioner made a sales below cost allegation against LM. Based on this allegation and in accordance with section 773(b)(2)(A)(i) of the Act, we found reasonable grounds to believe or suspect that sales of rebar manufactured by LM were made at prices below the COP. As a result, the Department has conducted an investigation to determine whether LM made sales in its third-country comparison market at prices below the COP during the POI, within the meaning of section 773(b) of the Act. We conducted the COP analysis described below.

1. Calculation of Cost of Production. In accordance with section 773(b)(3) of the Act, we calculated a weighted-average COP based on the sum of the cost of materials and fabrication for the foreign like product, plus amounts for the home market general and administrative (G&A) expenses, selling expenses, packing expenses and interest expenses.

We relied on the COP data submitted by LM in its cost questionnaire responses, except, as noted below, in specific instances where the submitted costs were not appropriately quantified or valued. We made company-specific adjustments to the reported COP as follows. First, we adjusted LM's reported G&A expense to include certain non-operating income and expense amounts that relate to the general operations of the company. Second, we adjusted the cost of goods sold amount used as the denominator in LM's G&A and interest expense rate calculations by excluding certain non-operating income and expense amounts included in the numerator of the G&A expense rate calculation. Finally, we excluded packing expenses from the calculation of LM's G&A and interest expenses.

2. Test of Home Market Sales Prices. We compared the adjusted weighted-average COP to the third-country market sales of the foreign like product, as required under section 773(b) of the Act, in order to determine whether these sales had been made at prices below the COP within an extended period of time (i.e., a period of one year) in substantial quantities ⁴ and whether such prices were sufficient to permit the recovery of all costs within a reasonable period of time.

⁴ In accordance with section 773(b)(2)(C)(i) of the Act, we determined that sales made below the COP were made in substantial quantities if the volume of such sales represented 20 percent or more of the volume of sales under consideration for the determination of NV.

On a model-specific basis, we compared the revised COP to the third-country prices, less any applicable movement charges.

3. Results of the COP Test. Pursuant to section 773(b)(2)(C) of the Act, where less than 20 percent of a respondent's sales of a given product were at prices less than the COP, we did not disregard any below-cost sales of that product because we determined that the below-cost sales were not made in “substantial quantities.” We found that no models of rebar sold by LM failed the 20 percent test and, therefore, we did not disregard any third-country sales in calculating NV.

C. Calculation of Normal Value Based on Third-Country Market Prices

We based third-country market prices on the packed prices to unaffiliated purchasers in Germany. We adjusted the starting price for foreign inland freight and international freight. We made no other adjustments.

We note that LM claimed a credit revenue for sales made to the United States and Germany. In its questionnaire responses, LM characterized this revenue as arising from prepayment made to LM by certain customers. For this preliminary determination, we have not allowed this claimed credit revenue as a circumstance of sale adjustment, as the respondent does not appear to be receiving prepayment from its customers. Instead, the respondent is apparently obtaining funds from banks in order to finance production, and arranging for customers to cancel this obligation directly with the banks after the merchandise is shipped. While the respondent has the use of the money to finance production, it must pay an interest fee to the banks, which offsets any imputed revenue that might arise from such an arrangement. LM has not demonstrated that these fees have been properly reported to the Department. As a result, we have denied the claimed credit revenue for U.S. and third-country sales for purposes of this preliminary determination. We intend to examine this issue further at verification.

D. Level of Trade

LM made only EP sales to the United States. LM's EP and third-country sales were made to trading companies and resellers. In both cases, the selling functions performed by LM for the different customer types and channels of distribution were limited in both markets to price and quantity negotiation, packing, and loading. The selling functions were virtually identical in both markets.

In accordance with section 773(a)(1)(B) of the Act, to the extent practicable, we determine NV based on sales in the comparison market at the same level of trade as the EP transaction.⁵ The NV level of trade is that of the starting-price sales in the comparison market. For EP sales, the U.S. level of trade is also the level of the starting-price sale, which is usually from exporter to importer.

⁵ As noted above, LM had only EP sales in the United States during the POI.

To determine whether NV sales are at a different level of trade than EP transactions, we examine stages in the marketing process and selling functions along the chain of distribution between the producer and the unaffiliated customer. If the comparison market sales are at a different level of trade and the difference affects price comparability, as manifested in a pattern of consistent price differences between the sales on which NV is based and comparison market sales at the level of trade of the export transaction, we make a level-of-trade adjustment under section 773(a)(7)(A) of the Act.

In implementing these principles in this investigation, we obtained information from LM about the marketing stages involved in the reported U.S. and third-country market sales, including a description of the selling activities performed by the respondent for each channel of distribution. In identifying levels of trade for EP and third-country market sales we considered the selling functions reflected in the starting price before any adjustments.

LM reported that its customers in both the United States and Germany were trading companies and resellers. LM further reported that its selling functions in both markets were identical and very limited (primarily to the provision of freight services), and did not include inventory maintenance, technical advice, warranty services, or advertising. Given this, we found a single level of trade for EP sales, and a single, identical level of trade in the comparison market. Therefore no adjustment for level of trade is warranted or granted.

Currency Conversions

We made currency conversions into U.S. dollars in accordance with section 773A of the Act based on exchange rates in effect on the dates of the U.S. sales, as obtained from the Federal Reserve Bank (the Department's preferred source for exchange rates).

Verification

In accordance with section 782(i) of the Act, we intend to verify all information relied upon in making our final determination.

Final Critical Circumstances Determination

We will make a final determination concerning critical circumstances for Latvia when we make our final determination regarding sales at LTFV in this investigation, which will be no later than 135 days after the publication of this notice in the Federal Register.

Suspension of Liquidation

In accordance with section 733(d) of the Act, we are directing the U.S. Customs Service to suspend liquidation of all entries of steel concrete reinforcing bars from Latvia that are entered, or withdrawn from warehouse, for consumption on or after the date of publication of this notice in the Federal Register. We are also instructing the Customs Service to require a cash deposit or the posting of a bond equal to the dumping margin, as indicated in the chart below. These instructions suspending liquidation will remain in effect until further notice.

Manufacturer/exporter | Margin (percent)
Liepajas Metalurgs | 17.37
All Others | 17.37

Disclosure

The Department will disclose calculations performed within five days of the date of publication of this notice to the parties of the proceedings in these investigations in accordance with 19 CFR 351.224(b).

International Trade Commission Notification

In accordance with section 733(f) of the Act, we have notified the ITC of our sales at LTFV and negative critical circumstances preliminary determinations. If our final antidumping determination is affirmative, the ITC will determine whether the imports covered by that determination are materially injuring, or threaten material injury to, the U.S. industry. The deadline for the ITC determination would be the later of 120 days after the date of this preliminary determination or 45 days after the date of our final determination.

Public Comment

Case briefs for this investigation must be submitted no later than one week after the issuance of the verification reports. Rebuttal briefs must be filed within five days after the deadline for submission of case briefs. A list of authorities used, a table of contents, and an executive summary of issues should accompany any briefs submitted to the Department. Executive summaries should be limited to five pages total, including footnotes. Further, we would appreciate it if parties submitting written comments would provide the Department with an additional copy of the public version of any such comments on diskette.

Section 774 of the Act provides that the Department will hold a hearing to afford interested parties an opportunity to comment on arguments raised in case or rebuttal briefs, provided that such a hearing is requested by any interested party. If a request for a hearing is made in an investigation, the hearing will tentatively be held two days after the deadline for submission of the rebuttal briefs, at the U.S. Department of Commerce, 14th Street and Constitution Avenue, NW, Washington, DC 20230. In the event that the Department receives requests for hearings from parties to more than one rebar case, the Department may schedule a single hearing to encompass all those cases. Parties should confirm by telephone the time, date, and place of the hearing 48 hours before the scheduled time.

Interested parties who wish to request a hearing, or to participate if one is requested, must submit a written request within 30 days of the publication of this notice. Requests should specify the number of participants and provide a list of the issues to be discussed. Oral presentations will be limited to issues raised in the briefs.

As noted above, we will make our final determination no later than 135 days after the date of publication of this preliminary determination.

This determination is issued and published pursuant to sections 733(f) and 777(i)(1) of the Act.

Dated: January 16, 2001.
Troy H. Cribb,
Assistant Secretary for Import Administration.

[FR Doc. 01-2518 Filed 1-29-01; 8:45 am]

BILLING CODE 3510-DS-P